DEPARTMENT OF ENERGY

Federal Energy Regulatory Commission

[Docket No. RP03-274-001]

Transcontinental Gas Pipe Line Corporation; Notice of Compliance Filing

March 12, 2003.

Take notice that on March 7, 2003, Transcontinental Gas Pipe Line Corporation (Transco) tendered for filing as part of its FERC Gas Tariff, Third Revised Volume No. 1, Substitute Eleventh Revised Sheet No. 40J.01 and Substitute Eighth Revised Sheet No. 40J.02. The tariff sheets are proposed to be effective April 1, 2003.

Transco states that the purpose of the instant filing is to incorporate the revised electric power rates reflected in Transco's Supplemental Electric Power Tracker Filing in Docket No. RP03-271-000, dated March 7, 2003, into its February 28, 2003, Sunbelt Commodity Rate Filing (February 28 filing). Transco is not proposing any other changes to its February 28 filing.

Transco states that copies of the filing are being mailed to affected customers, interested State Commissions and other interested parties.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 19, 2003.

Magalie R. Salas,
Secretary.

[FR Doc. 03-6535 Filed 3-18-03; 8:45 am]

BILLING CODE 6717-01-P